DEPARTMENT OF ENERGY

Federal Energy Regulatory Commission

[Docket No. IC24-11-000]

Commission Information Collection Activities (FERC-576) Comment Request; Extension

AGENCY: Federal Energy Regulatory Commission.

ACTION: Notice of information collection and request for comments.

SUMMARY: In compliance with the requirements of the Paperwork Reduction Act of 1995 (PRA), the Federal Energy Regulatory Commission (Commission or FERC) is soliciting public comment on the currently approved information collection, FERC-576, OMB Control Number 1902-0004, which will be submitted to the Office of Management and Budget (OMB) for review.

DATES: Comments on the collection of information are due June 10, 2024.

ADDRESSES: Send written comments on FERC-576 to OMB through www.reginfo.gov/public/do/PRAMain. Attention: Federal Energy Regulatory Commission Desk Officer. Please identify the OMB Control Number (1902-0004) in the subject line of your comments. Comments should be sent within 30 days of publication of this notice to www.reginfo.gov/public/do/PRAMain.

Please submit copies of your comments to the Commission. You may submit copies of your comments (identified by Docket No. IC24-11-000 and FERC-576) by one of the following methods:

Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Jean Sonneman may be reached by email at DataClearance@FERC.gov, telephone at (202) 502-6362.

SUPPLEMENTARY INFORMATION:

Title: FERC-576, Report of Service Interruptions or Damage to Facilities.

OMB Control No.: 1902-0004.

Type of Request: Three-year extension of the FERC-576 information collection requirements with no changes to the current reporting requirements.

Abstract: Per 18 CFR 260.9, natural gas pipeline companies must report (i) damage to any jurisdictional natural gas facilities other than liquefied natural gas facilities caused by a hurricane, earthquake or other natural disaster or terrorist activity that results in a loss of or reduction in pipeline throughput or storage deliverability; and (ii) serious interruptions of service to any shipper involving jurisdictional natural gas facilities other than liquefied natural gas facilities.

The notifications, made to the Director, Division of Pipeline Certificates via email or fax as soon as feasibly possible, must state: (1) The location of the service interruption or damage to natural gas pipeline or storage facilities; (2) The nature of any damage to pipeline or storage facilities; (3) Specific identification of the facilities damaged; (4) The time the service interruption or damage to the facilities occurred; (5) The customers affected by the service interruption or damage to the facilities; (6) Emergency actions taken to maintain service; and (7) Company contacts and telephone numbers. The information provided by these notifications are kept by the Commission and are not made part of the public record.

In addition, if the Department of Transportation requires an incident report ¹ under the Natural Gas Pipeline Safety Act (49 U.S.C. 60101 through 60143), a copy of such report must be submitted to the Director of the Commission's Division of Pipeline Certificates, within 30 days of the reportable incident. Natural gas companies must also send a copy of submitted incident reports to each state commission for the state(s) in which the reported service interruption occurred.² If the Commission did not collect this information, it would lose a data point that assists in the monitoring of transactions, operations, and reliability of interstate pipelines.

¹ The Department of Transportation defines “incident” at 49 CFR 191.3. The regulatory thresholds for an “incident report” include (1) A death, or personal injury necessitating in-patient hospitalization; (2) Estimated property damage of $122,000 or more; (3) Unintentional estimated gas loss of three million cubic feet or more; (4) Emergency shutdown of a facility; or (5) An event that is significant in the judgment of the operator.

² See 18 CFR 260.9(d) and 260.9(e).

The Commission published a 60-day notice for FERC-576 on May 4, 2024 (89 FR 15569), with a due date of May 3, 2024. The Commission received no public comments in response.

Type of Respondents: Natural gas companies experiencing service interruptions or damage to facilities.

Estimate of Annual Burden: The Commission estimates the average annual burden ³ and cost ⁴ for this information collection as follows.

³ Burden is defined as the total time, effort, or financial resources expended by persons to generate, maintain, retain, or disclose or provide information to or for a Federal agency. For further explanation of what is included in the information collection burden, refer to 5 CFR part 1320.

⁴ The Commission staff estimates that the average respondent for FERC-576 is similarly situated to the Commission, in terms of salary plus benefits. Based on FERC's current annual average of $207,786 (for salary plus benefits), the average hourly cost is $100/hour.

| Number of respondents | Annual number of responses per respondent | Total number of responses | Average burden hrs. & cost ($) per response | Total annual burden hrs. & total annual cost | Cost per respondent ($)
| (1) | (2) | (1) * (2) = (3) | (4) | (3) * (4) = (5) | (5) ÷ (1)
Notification of Incident—Service Interruption | 50 | 1 | 50 | 1 hr.; $100.00 | 50 hrs.; $5,000.00 | $100.00
Notification of Incident—Damage | 22 | 1 | 22 | 0.25 hrs.; $25.00 | 5.5 hrs.; $550.00 | 25.00
Submittal of DOT Incident Report | 10 | 1 | 10 | 0.25 hrs.; $25.00 | 2.5 hrs.; $250.00 | 25.00
Total | 82 |  |  |  | 58 hrs.; $5,800 |

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 6, 2024.
Debbie-Anne A. Reese,
Acting Secretary.

[FR Doc. 2024-10221 Filed 5-9-24; 8:45 am]

BILLING CODE 6717-01-P